DEPARTMENT OF THE INTERIOR

Fish and Wildlife Service

[FWS-R1-R-2010-N125; 1265-0000-10137-S3]

Willamette Valley National Wildlife Refuge Complex, Benton, Linn, Marion, and Polk Counties, OR

AGENCY: Fish and Wildlife Service, Interior.

ACTION: Notice of availability: draft comprehensive conservation plan and environmental assessment; request for comments.

SUMMARY: We, the U.S. Fish and Wildlife Service (Service), announce the availability of a draft comprehensive conservation plan (DCCP) and environmental assessment (EA) for the Willamette Valley National Wildlife Refuge Complex (refuge complex) for public review and comment. The refuge complex is made up of Ankeny, Baskett Slough, and William L. Finley National Wildlife Refuges (refuges), located in Benton, Linn, Marion, and Polk Counties, Oregon. In the DCCP and EA, we describe and evaluate alternatives, including our preferred alternative, for managing the refuge complex for the 15 years following approval of the final CCP.

DATES: To ensure consideration, we must receive your written comments by June 24, 2011.

ADDRESSES: You may submit comments, requests for more information, or requests for copies of the DCCP/EA, by any of the following methods:

E-mail: FW1PlanningComments@fws.gov. Include “Willamette Valley NWRC DCCP/EA” in the subject line.

Fax: Attn: Doug Spencer, Project Leader, (541) 757-4450.

U.S. Mail: Doug Spencer, Project Leader, Willamette Valley National Wildlife Refuge Complex, 26208 Finley Refuge Road, Corvallis, OR 97333-9533.

Web site: http://www.fws.gov/WillametteValley/complex/.

FOR FURTHER INFORMATION CONTACT: Doug Spencer, Project Leader, (541) 757-7236.

SUPPLEMENTARY INFORMATION:

Introduction

The complex includes three refuges: William L. Finley, Baskett Slough, and Ankeny. Together, the three refuges encompass approximately 11,110 acres in western Oregon. Habitats on the refuges include seasonal, semipermanent, and permanent wetlands; wet prairies, upland prairie/oak savannas, oak woodlands, mixed deciduous-coniferous forests, riparian, and riverine and stream habitats. Agricultural lands, the majority managed as grass fields, are also present on the refuges. The refuges were established under the Migratory Bird Conservation Act “for use as an inviolate sanctuary or for any other management purpose, for migratory birds . . . to conserve and protect migratory birds . . . and to restore or develop adequate wildlife habitat” with emphasis on protecting dusky Canada geese. In the last four decades, these refuges have provided not only an important wintering grounds for the dusky and thousands of other wintering geese and ducks—but have been recognized more recently as increasingly important areas for conservation of the remaining fragments of the native Valley habitats and biota. The refuges support key populations of federally listed species, including Oregon chub, Fender's blue butterfly, Bradshaw's desert-parsley, Kincaid's lupine, Nelson's checker-mallow, and Willamette daisy, and provide migration habitat for listed Chinook salmon and steelhead. Several other rare species are also found on the refuges.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We began public outreach by publishing a Notice of Intent in the Federal Register (73 FR 11137; February 29, 2008), announcing our intent to complete a CCP and EA and inviting public comments. In January 2008, we distributed Planning Update 1 to our mailing list and public outlets. On February 7 and 13, 2008, we held public scoping meetings in Salem and Corvallis, Oregon, respectively, to meet the public and identify issues for evaluation. The meetings were announced through local media outlets, on the refuges' Web site, and in Planning Update 1. In September 2008, we distributed Planning Update 2, which included a summary of the comments we received, a planning schedule, and a description of the CCP's scope. In September 2009, we distributed Planning Update 3; in it we summarized our preliminary draft alternatives, and invited public comments.

DCCP/EA Alternatives We Are Considering

We identified and evaluated three alternatives for managing the refuges, including a No Action Alternative (Alternative 1). Brief descriptions of the alternatives follow:

Alternative 1 (No Action)

Under Alternative 1, the refuges would continue to maintain cultivated grass fields under a cooperative farming program to provide forage for wintering Canada geese. Other goose management activities, such as managing wetland habitats and providing sanctuary, would continue. The refuges would also continue to manage and enhance native habitats but no further habitat restoration work would occur. Endangered species management would continue. Existing public uses would continue with the current facilities and programs in place. No new public use facilities would be developed. The current areas closed to public access would remain in effect to provide sanctuary during the wintering waterfowl season. The refuges would not pursue any additional land protection measures under the no change alternative.

Alternative 2 (Preferred Alternative)

Under Alternative 2, an emphasis on providing habitat for wintering geese would remain. Forage would continue to be provided primarily via cooperative farming. The refuges would pursue measures to help retain the services of cooperative farmers, such as providing enhanced irrigation capabilities; providing additional lure crops such as corn or other grains; the refuges taking over farming on certain high goose use fields; the Service offsetting a portion of the costs to cooperative farmers, etc. Wetland habitat management and restoration would also be intensified to improve habitat for geese and other wildlife.

Management and enhancement would continue in remnant native habitats and recently restored areas. In addition, approximately 479 additional acres on the three refuges would be restored to wetland, wet prairie, riparian, or upland prairie/oak savannah habitats over the next 15 years.

Threatened and endangered species management would continue to be a priority, guided by recovery plans where applicable. Existing populations of several threatened and endangered species would be strengthened, and several new populations would be established on the refuges.

Wildlife observation and interpretation would continue to be emphasized as the cornerstone of the public use program. Several new trails and observation facilities would be added. Additional interpretive signs and materials, including on-line materials, would be developed. Major special events would occur at a frequency of about 3-4 per year, and monthly weekend interpretive programs would be developed.

Environmental education efforts would be expanded with an objective of reaching more students and schools, particularly at William L. Finley Refuge. Outdoor class shelters would be added. Funding would be sought to construct an Environmental Education Center, including indoor classroom facilities and a small exhibit area.

A new option to hunt antlerless deer would be added. In addition, new upland locations would be available for hunting during a portion of the shotgun season; this will require closure of two hiking trails for a week in November. The shotgun season would be shortened and shifted to later in the State season. A youth waterfowl hunt and a September goose hunt would be provided at Baskett Slough Refuge. Fishing would be promoted at the Willamette River by providing a canoe launch at Snag Boat Bend. The current area closed to public access would remain in effect to provide sanctuary during the wintering waterfowl season.

Together with Oregon Department of Fish and Wildlife, the refuges would develop an elk management plan after completion of the CCP. The refuges would continue to expand conservation partnerships, volunteer programs, and outreach to local communities. Proactive cultural resource management would occur by repairing/maintaining the historic structures on William L. Finley Refuge and by adding associated interpretive facilities.

This alternative also proposes protection, conservation, and management of additional lands within the Willamette Valley that could contribute to the refuges' purposes and goals by providing wintering habitat and forage for Canada geese; providing protection, enhancement, and restoration of native habitats and rare Willamette Valley species; and providing opportunity for additional wildlife-dependent public use. The refuges would undertake a subsequent land protection planning process to identify specific tracts of lands for these purposes.

Alternative 3

This alternative involves a major shift in management for wintering Canada geese. Forage would be provided either through contract farming (paying farmers to grow crops on the refuges) and/or force account farming (refuge staff doing the farming). The refuges would only farm fields that have been receiving moderate to high goose use. Refuge farming program costs would increase and goose use would likely decrease.

This alternative would create the opportunity to restore approximately 1,436 acres of cropland to native habitat since the amount of farmland would be reduced. However, the fields to be restored would likely lie fallow and could become weedy while awaiting staff time and funding for restoration.

Wildlife observation and interpretation would continue to be emphasized as the cornerstone of the public use program, but this alternative does little to expand these programs further. Interpretive signs would be developed or updated for existing facilities where needed, but major new developments and new interpretive methods would generally not occur. One or two special events would be held each year. The current area closed to public access on all three refuges would remain in effect to provide sanctuary during the wintering waterfowl season.

Deer hunting, threatened and endangered species management, environmental education, fishing, elk management, cultural resources, subsequent land protection planning, and conservation partnership activity would occur as under Alternative 2.

Public Availability of Documents

In addition to the information in ADDRESSES, you can view or obtain documents in the following ways: by calling the refuge complex at (541) 757-7236 or visiting our Web site at http://www.fws.gov/WillametteValley/finley/refuge_planning.html. Printed copies will be available for review at the following libraries:

• Corvallis-Benton County Public Library, 645 NW. Monroe Avenue, Corvallis, OR 97330, 541-766-6926.

• Albany Public Library, 2450 14th Avenue SE., Albany, OR 97231, 541-917-7580.

• Dallas Public Library, 950 Main Street, Dallas, OR 97338, 503-623-2633.

• Jefferson Public Library, 128 South Main Street, Jefferson, OR 97352, 541-327-3826.

Next Steps

After this comment period ends, we will analyze the comments and address them in the final CCP and decision document.

Public Availability of Comments

Before including your address, phone number, e-mail address, or other personal identifying information in your comment, you should be aware that your entire comment—including your personal identifying information—may become publicly available at any time. While you can ask us in your comment to withhold your identifying information from the public, we cannot guarantee that we will be able to do so.

Dated: April 28, 2011.
Robyn Thorson,
Regional Director, Region 1, Portland, Oregon.

[FR Doc. 2011-12964 Filed 5-24-11; 8:45 am]

BILLING CODE 4310-55-P